DEPARTMENT OF HOMELAND SECURITY

Published Privacy Impact Assessments on the Web

AGENCY: Privacy Office, Office of the Secretary, Department of Homeland Security.

ACTION: Notice of Publication of Privacy Impact Assessments.

SUMMARY: The Privacy Office of the Department of Homeland Security is making available three Privacy Impact Assessments on various programs and systems in the Department. These assessments were approved and published on the Privacy Office's Web site between November 1, 2006 and November 30, 2006.

DATES: The Privacy Impact Assessments will be available on the DHS Web site until February 20, 2007, after which they may be obtained by contacting the DHS Privacy Office (contact information below).

FOR FURTHER INFORMATION CONTACT: Hugo Teufel III, Chief Privacy Officer, Department of Homeland Security, Washington, DC 20528; by telephone (571) 227-3813, facsimile (866) 466-5370, or e-mail: pia@dhs.gov.

SUPPLEMENTARY INFORMATION: Between November 1, 2006 and November 30, 2006, the Chief Privacy Officer of the Department of Homeland Security (DHS) approved and published three Privacy Impact Assessments (PIAs) on the DHS Privacy Office Web site, http://www.dhs.gov/privacy, under the link for “Privacy Impact Assessments.” These PIAs cover three separate DHS programs. Below is a short summary of those programs, indicating the DHS component responsible for the system, and the date on which the PIA was approved. Additional information can be found on the Web site or by contacting the Privacy Office.

1. CBP Automatic Targeting System

Customs and Border Protection

November 22, 2006: Department of Homeland Security, Customs and Border Protection (CBP), has developed the Automated Targeting System (ATS). ATS is one of the most advanced targeting systems in the world. Using a common approach for data management, analysis, rules-based risk management, and user interfaces, ATS supports all CBP mission areas and the data and rules specific to those areas. This PIA was prepared in conjunction with the System of Records Notice that was published on November 2, 2006 in the Federal Register.

2. Global Enrollment System

Customs and Border Protection

November 1, 2006: This is an update to the previous Global Enrollment System PIA, dated April 20, 2006. It was prepared in order to include a description and analysis of the Global On-Line Enrollment System, which is the new online application process for enrollment in Customs and Border Protection trusted traveler programs. With the new system, CBP will be able to offer an on-line enrollment process to prospective and existing members of GES programs.

3. United States Coast Guard “Biometrics at Sea” Mona Passage Proof of Concept

U.S. Coast Guard

November 3, 2006: This PIA describes the U.S. Coast Guard (USCG) and U.S. Visitor and Immigrant Status Indicator Technology (US-VISIT) Program partnership. The partnership is in furtherance of the broader objective to develop mobile biometric capabilities for the Department of Homeland Security (DHS). The findings from this proof of concept will be used to develop and refine technologies needed for mobile biometrics collection and analysis capability at sea, along with other remote areas where DHS operates. The technologies developed through this proof of concept will assist in the apprehension and prosecution of illegal migrants and migrant smugglers. They will also deter unsafe and illegal maritime migration, which will help preserve life at sea. The USCG deployed the at-sea biometric capability during the operational Proof of Concept (POC) in November 2006.

Dated: December 12, 2006.
Hugo Teufel III,
Chief Privacy Officer.

[FR Doc. E6-21752 Filed 12-19-06; 8:45 am]

BILLING CODE 4410-10-P